DEPARTMENT OF LABOR

Employment and Training Administration

[TA-W-71,499; TA-W-71,499A; TA-W-71,499B]

Amended Certification Regarding Eligibility To Apply for Worker Adjustment Assistance

TA-W-71,499, Sara Lee Corporation, Including On-Site Leased Workers From EDS, Hewitt Packard, Sapphire Technology, and TekSystems, Including On-Site Workers From International Business Machines (IBM), Downers Grove, IL;

TA-W-71,499A, Sara Lee Corporation, Master Data, Cash Applications, Deductions, Collections, Call Center, Information Technology, Accounts Payable, General Accounts, Financial Accounts, Payroll, and Employee Master Data Departments, Including On-Site Leased Workers From Adecco, Crossfire, Kelly, K-Force, Labor Ready Staffing, Randstad, RGP, RHI, Sapphire Technology, Select Staffing, TekSystems, the Brighton Group, TraSys, VIP Staffing, and Workforce Temps, Earth City, MO;

TA-W-71,499B, Sara Lee Corporation, Information Technology Department, Including On-Site Leased Workers From Adecco, Crossfire, Kelly, K-Force, Labor Ready Staffing, Randstad, RGP, RHI, Sapphire Technology, Select Staffing, Snelling Staffing, TekSystems, the Brighton Group, TraSys, VIP Staffing, and Workforce Temps, Mason, OH.

In accordance with Section 223 of the Trade Act of 1974, as amended (“Act”), 19 U.S.C. 2273, the Department of Labor issued a Certification of Eligibility to Apply for Worker Adjustment Assistance on October 7, 2009, applicable to workers of Sara Lee Corporation, including on-site leased workers from EDS, Hewitt Packard, Sapphire Technology, and TekSystems, Downers Grove, Illinois (TA-W-71,499). The workers provide shared financial services and information technology. The notice was published in the Federal Register on December 11, 2009 (74 FR 65799). The notice as amended on October 19, 2010 to include the Earth City, Missouri, Mason, Ohio and on-site leased workers from the above mentioned firms. The amended notice was published in the Federal Register on November 3, 2010 (75 FR 67770).

At the request of Illinois State Employment Security, the Department reviewed the certification for workers of the subject firm. New information shows that workers from International Business Machines (IBM) were employed on-site at the Downers Grove, Illinois location of Sara Lee Corporation. The IBM employees support the supply of accounting, information technology and payroll services at the Downers Grove, Illinois location of the subject firm. Department has determined that these workers were sufficiently under the control of Sara Lee Corporation are eligible to be included in this certification.

Accordingly, the Department is amending this certification to include workers from International Business Machines (IBM) employed on-site at the Downers Grove, Illinois location of Sara Lee Corporation.

The amended notice applicable to TA-W-71,499, TA-W-71,499A, and TA-W-71,499B are hereby issued as follows:

All workers of Sara Lee Corporation, including on-site leased workers from EDS, Hewitt Packard, Sapphire Technology, TekSystems and International Business Machines (IBM), Downers Grove, Illinois (TA-W-71,499), who became totally or partially separated from employment on or after June 30, 2008, through October 7, 2011, and all workers in the group threatened with total or partial separation from employment on the date of certification through two years from the date of certification, are eligible to apply for adjustment assistance under Chapter 2 of Title II of the Trade Act of 1974, as amended.

All workers of Sara Lee Corporation, Master Data, Cash Applications, Deductions, Collections, Call Center, Information Technology, Accounts Payable, General Accounts, Financial Accounts, Payroll, and Employee Master Data Departments, including on-site leased workers from Adecco, Crossfire, Kelly, K-Force, Labor Ready Staffing, Randstand, RGP, RHI, Sapphire Technology, Select Staffing, TekSystems, the Brighton Group, TraSys, VIP Staffing, and Workforce Temps, Earth City, Missouri (TA-W-71,499A), who became totally or partially separated from employment on June 30, 2008, are eligible to apply for adjustment assistance under Chapter 2 of Title II of the Trade Act of 1974, as amended.

All workers of Sara Lee Corporation, Information Technology Department, including on-site leased workers from Adecco, Crossfire, Kelly, K-Force, Labor Ready Staffing, Randstand, RGP, RHI, Sapphire Technology, Select Staffing, Snelling Staffing, TekSystems, the Brighton Group, TraSys, VIP Staffing, and Workforce Temps, Mason, Ohio (TA-W-71,499B), who became totally or partially separated from employment on or after June 30, 2008, through February 2, 2009, are eligible to apply for adjustment assistance under Chapter 2 of Title II of the Trade Act of 1974, as amended.

Signed at Washington, DC, this 2nd day of September 2011.
Elliott S. Kushner,
Certifying Officer, Division of Trade Adjustment Assistance.

[FR Doc. 2011-24471 Filed 9-22-11; 8:45 am]

BILLING CODE 4510-FN-P